DEPARTMENT OF ENERGY

Federal Energy Regulatory Commission

[Docket No. EL16-117-000]

Vote Solar Initiative, Montana Environmental Information Center v. Montana Public Service Commission; Notice of Complaint

Take notice that on September 19, 2016, pursuant to Rule 206 of the Federal Energy Regulatory Commission's (Commission) Rules of Practice and Procedure, 18 CFR 385.206, Vote Solar Initiative and Montana Environmental Information Center (collectively, Vote Solar) filed a formal complaint against Montana Public Service Commission (Respondent) alleging that Respondent violated section 210 of Public Utilities Regulatory Policies Act of 1978, 16 U.S.C. 824a-3, by suspending the standard rate for solar qualifying facilities with a nameplate capacity between 100 kW and 3 MW, all as more fully explained in the complaint.

Vote Solar certifies that copies of the complaint were served on the contacts for the Montana Public Service Commission, on contacts for North Western Energy as listed on the Commission's list of Corporate Officials, and on other persons who may be affected by the complaint.

Any person desiring to intervene or to protest this filing must file in accordance with Rules 211 and 214 of the Commission's Rules of Practice and Procedure (18 CFR 385.211 and 385.214). Protests will be considered by the Commission in determining the appropriate action to be taken, but will not serve to make protestants parties to the proceeding. Any person wishing to become a party must file a notice of intervention or motion to intervene, as appropriate. The Respondent's answer and all interventions, or protests must be filed on or before the comment date. The Respondent's answer, motions to intervene, and protests must be served on the Complainant.

The Commission encourages electronic submission of protests and interventions in lieu of paper using the “eFiling” link at http://www.ferc.gov. Persons unable to file electronically should submit an original and 5 copies of the protest or intervention to the Federal Energy Regulatory Commission, 888 First Street NE., Washington, DC 20426.

This filing is accessible on-line at http://www.ferc.gov, using the “eLibrary” link and is available for review in the Commission's Public Reference Room in Washington, DC. There is an “eSubscription” link on the Web site that enables subscribers to receive email notification when a document is added to a subscribed docket(s). For assistance with any FERC Online service, please email FERCOnlineSupport@ferc.gov, or call (866) 208-3676 (toll free). For TTY, call (202) 502-8659.

Comment Date: 5:00 p.m. Eastern Time on October 11, 2016.

Dated: September 22, 2016.
Kimberly D. Bose,
Secretary.

[FR Doc. 2016-23517 Filed 9-28-16; 8:45 am]

BILLING CODE 6717-01-P